DEPARTMENT OF DEFENSE

GENERAL SERVICES ADMINISTRATION

NATIONAL AERONAUTICS AND SPACE ADMINISTRATION

[OMB Control No. 9000-0007; Docket 2015-0055; Sequence 59]

Submission for OMB Review; Summary Subcontract Report

AGENCY: Department of Defense (DOD), General Services Administration (GSA), and National Aeronautics and Space Administration (NASA).

ACTION: Notice of request for comments regarding a revision to an existing OMB clearance.

SUMMARY: Under the provisions of the Paperwork Reduction Act, the Regulatory Secretariat Division will be submitting to the Office of Management and Budget (OMB) a request to review and approve revisions to a previously approved information collection requirement concerning summary subcontract reports. A notice was published in the Federal Register at 80 FR 32909 on June 10, 2015. No comments were received on the information collection.

DATES: Submit comments on or before November 30, 2015.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number. Select the link “Submit a Comment” that corresponds with “Information Collection 9000-0007, Summary Subcontract Report”. Follow the instructions provided at the “Submit a Comment” screen. Please include your name, company name (if any), and “Information Collection 9000-0007, Summary Subcontract Report”, on your attached document.

• Mail: General Services Administration, Regulatory Secretariat (MVCB), 1800 F Street NW., Washington, DC 20405. ATTN: Ms. Flowers/IC 9000-0007, Summary Subcontract Report.

Instructions: Please submit comments only and cite Information Collection 9000-0007, Summary Subcontract Report, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Mahruba Uddowla, Procurement Analyst, Office of Governmentwide Acquisition Policy, at 703-605-2868 or via email at mahruba.uddowla@gsa.gov.

SUPPLEMENTARY INFORMATION:

A. Purpose

In accordance with Federal Acquisition Regulation 19.702, any contractor receiving a contract for more than the simplified acquisition threshold must agree in the contract that small business, small disadvantaged business, historically underutilized business zone (HUBZone) small business, veteran-owned small business, service-disabled veteran-owned small business, and women-owned small business concerns will have the maximum practicable opportunity to participate in contract performance consistent with its efficient performance. Further, contractors receiving a contract or a modification to a contract expected to exceed $700,000 ($1,500,000 for construction) must submit a subcontracting plan that provides maximum practicable opportunities for the above named concerns. Specific elements required to be included in the plan are specified in section 8(d) of the Small Business Act and are implemented in FAR Subpart 19.7.

In conjunction with the subcontracting plan requirements, contractors must submit an annual summary of subcontracts awarded by prime and subcontractors for a specific Federal Government agency that required an individual subcontracting plan for the previous fiscal year. This is accomplished through the use of the Summary Subcontract Report (SSR), submitted through the Electronic Subcontracting Reporting System (eSRS). The eSRS streamlines the small business subcontracting program reporting process and provides the data to agencies in a manner that enables them to more effectively manage the program.

The SBA made regulatory changes in its final rule at 78 FR 42391, dated July 16, 2013 regarding subcontracting plan requirements and the associated reporting requirements. The SBA final rule is being implemented in the FAR at Subpart 19.7 and clause 52.219-9 Small Business Subcontracting Plan through FAR case 2014-003, Small Business Subcontracting Improvements. FAR case 2014-003 revised the FAR to require a subcontracting plan for modifications of any value if the modification will cause the contract to exceed the threshold for requiring a plan and when subcontracting opportunities exist as well as to give contracting officers the discretion to require a plan when a small business prime contractor rerepresents as an other than small on the contract. These revisions to the FAR required revisions to the existing information collections associated with subcontracting plan requirements and the associated reporting requirements.

B. Annual Burden Hours

Based on the proposed revisions to the FAR as well as a more accurate basis for estimation, a downward adjustment is being made to the number of respondents (i.e., summary subcontracting reports). Since the proposed revisions to the FAR does not require additional information in the Summary Subcontract Report, the estimated preparation hours per response remains unchanged. As a result, a downward adjustment is being made to the estimated annual reporting burden since the notice regarding an extension to this clearance published in the Federal Register at 78 FR 17668, on March 22, 2013.

Respondents: 59,336.

Responses per respondent: 1.

Total responses: 59,336.

Average burden hours per response: 9.0.

Total Burden Hours: 534,024.

C. Public Comments

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat (MVCB), 1800 F Street NW., Washington, DC 20405, telephone 202-501-4755. Please cite OMB Control Number 9000-0007, Summary Subcontract Report, in all correspondence.

Edward Loeb,
Acting Director, Federal Acquisition Policy Division, Office of Governmentwide Acquisition Policy, Office of Acquisition Policy, Office of Governmentwide Policy.

[FR Doc. 2015-27553 Filed 10-28-15; 8:45 am]

BILLING CODE 6820-EP-P